DEPARTMENT OF THE INTERIOR

National Park Service

New Merced Wild and Scenic River Comprehensive Management Plan; Yosemite National Park; Madera and Mariposa Counties, CA; Notice of Extension of Public Scoping Period for Environmental Impact Statement

SUMMARY: Pursuant to § 102(2)(c) of the National Environmental Policy Act of 1969 (Pub. L. 91-190 as amended), the National Park Service, Department of the Interior, will prepare a Draft Environmental Impact Statement (DEIS) for a Comprehensive Management Plan which will guide future management of the Merced River corridor in Yosemite National Park during the next 10-15 years. The Notice of Intent to prepare the EIS was published in the Federal Register on June 30, 2009 (with a 60-day public scoping period originally set to conclude on August 29, 2009). In deference to general public interest expressed to date by interested individuals, local entities, and concerned organizations, the scoping period has been extended.

SUPPLEMENTARY INFORMATION: Any individual, organization, agency, or other interested parties are encouraged to provide written comments—any further responses must now be postmarked or transmitted no later than December 4, 2009. Comments already provided in response to the June 30, 2009 Notice of Intent need not be resubmitted. All written responses should be addressed to the Superintendent, Attn: Merced River Plan, P.O. Box 577, Yosemite National Park, CA 95389, or may be sent via the Internet to yose_planning@nps.gov or submitted via FAX to (209) 379-1294. Before including your address, phone number, e-mail address, or other personal identifying information, you should be aware that your entire comment—including your personal identifying information—may be made publicly available at any time. While you can ask us in your comment to withhold your personal identifying information from public review, we cannot guarantee that we will be able to do so.

Public meetings originally planned to be hosted during late July and August will be rescheduled for September-October. To request meeting details (pending confirmation) or to be included on the Comprehensive Management Plan mailing list, contact the park at the address or e-mail noted above, or via telephone at (209) 379-1365.

Dated: July 22, 2009.
George J. Turnbull,
Acting Regional Director, Pacific West Region.

[FR Doc. E9-20435 Filed 8-24-09; 8:45 am]

BILLING CODE P